DEPARTMENT OF TRANSPORTATION

Office of the Secretary

49 CFR Part 33

[Docket No. OST 2010-0298]

RIN 2105-AD83

Prioritization and Allocation Authority Exercised by the Secretary of Transportation Under the Defense Production Act

AGENCY: Office of the Secretary of Transportation (OST), DOT.

ACTION: Confirmation of effective date.

SUMMARY: On October 1, 2012, the Department published a final rule requesting comment at 77 FR 59793 to clarify the priorities and allocation authorities exercised by the Secretary of Transportation (Secretary) under title I of the Defense Production Act of 1950 and to establish the administrative procedures by which the Secretary will exercise this authority. In the final rule, the Department requested comment on certain revised definitions found in 49 CFR 33.20. No comments were received by the comment closing date of October 31, 2012. As a result, this document confirms that the October 1 final rule will not be changed and its effective date is November 30, 2012.

DATES: Effective Date: This document confirms that the Department's final rule at 77 FR 59793 is effective on November 30, 2012.

FOR FURTHER INFORMATION CONTACT: Donna L. O'Berry, Office of the General Counsel, Department of Transportation, 1200 New Jersey Avenue SE., Room W96-320, Washington, DC 20590; telephone: (202) 366-6136; email: donna.o'berry@dot.gov.

SUPPLEMENTARY INFORMATION: As the Department received no comments on its final rule published on October 1, 2012, we are making no changes to the rule and its effective date is November 30, 2012.

Issued in Washington, DC, on November 14, 2012.
Ronald Jackson,
Assistant General Counsel for Operations.

[FR Doc. 2012-28303 Filed 11-20-12; 8:45 am]

BILLING CODE 4910-9X-P